SUSQUEHANNA RIVER BASIN COMMISSION

Public Hearing

AGENCY: Susquehanna River Basin Commission.

ACTION: Notice.

SUMMARY: The Susquehanna River Basin Commission will hold a public hearing on February 4, 2021. Due to the COVID-19 situation and the relevant orders in place in the Commission's member jurisdictions, the Commission will hold this hearing telephonically. At this public hearing, the Commission will hear testimony on the projects listed in the Supplementary Information section of this notice. Such projects and proposals are intended to be scheduled for Commission action at its next business meeting, tentatively scheduled for March 12, 2021, which will be noticed separately. The public should take note that this public hearing will be the only opportunity to offer oral comment to the Commission for the listed projects and proposals. The Commission will also hear testimony on its draft Comprehensive Plan during this hearing.

DATES: The public hearing will convene on February 4, 2021, at 2:30 p.m. The public hearing will end at 5:00 p.m. or at the conclusion of public testimony, whichever is sooner. The deadline for the submission of written comments on the list of projects subject to action and the Comprehensive Plan is February 19, 2021.

ADDRESSES: This hearing will be held by telephone rather than at a physical location. Conference Call #1-888-387-8686, the Conference Room Code #9179686050.

FOR FURTHER INFORMATION CONTACT: Jason Oyler, General Counsel and Secretary to the Commission, telephone: (717) 238-0423; fax: (717) 238-2436.

Information concerning the applications for these projects is available at the Commission's Water Application and Approval Viewer at https://www.srbc.net/waav. Additional supporting documents and the draft Comprehensive Plan are available to inspect and copy in accordance with the Commission's Access to Records Policy at www.srbc.net/regulatory/policies-guidance/docs/access-to-records-policy-2009-02.pdf.

SUPPLEMENTARY INFORMATION: On December 16, 2020, the Susquehanna River Basin Commission released for public review and comment a proposed 2021 Update of the Comprehensive Plan for the Water Resources of the Susquehanna River Basin. As part of the public comment process, the Commission will receive testimony on the updated Comprehensive Plan. The public hearing will be held on February 4, 2021 at 2:30 p.m. This hearing will be held by telephone rather than at a physical location. The conference call number is 1-888-387-8686, and the conference room code is 9179686050. Written comments may also be submitted at any time during the public comment period, which ends on February 19, 2021.

The public hearing will also cover the following projects.

Projects Scheduled for Action

1. Project Sponsor and Facility: Beech Resources, LLC (Lycoming Creek), Lycoming Township, Lycoming County, Pa. Application for surface water withdrawal of up to 1.500 mgd (peak day).

2. Project Sponsor and Facility: Geneva Farm Golf Course, Inc., Dublin District, Harford County, Md. Application for renewal of consumptive use of up to 0.099 mgd (30-day average) (Docket No. 19910104).

3. Project Sponsor and Facility: Greenfield Township Municipal Authority, Greenfield Township, Blair County, Pa. Application for groundwater withdrawal of up to 0.499 mgd (30-day average) from Well PW-4.

4. Project Sponsor and Facility: Hastings Municipal Authority, Elder Township, Cambria County, Pa. Application for groundwater withdrawal of up to 0.260 mgd (30-day average) from Mine Spring Well 1.

5. Project Sponsor and Facility: Montgomery Water Authority, Clinton Township, Lycoming County, Pa. Application for renewal of groundwater withdrawal of up to 0.220 mgd (30-day average) from Well 3 (Docket No. 19910705).

6. Project Sponsor and Facility: Renovo Energy Center LLC, Renovo Borough, Clinton County, Pa. Modification to extend the project commencement date of the approval (Docket No. 20160608).

7. Project Sponsor and Facility: Village of Sidney, Town of Sidney, Delaware County, N.Y. Modification to extend the approval term of the groundwater withdrawal approval (Docket No. 19860201) to provide time for development of a replacement source for existing Well 2-88.

8. Project Sponsor: SUEZ Water Pennsylvania Inc. Project Facility: Dallas Operation, Dallas Township, Luzerne County, Pa. Application for renewal of groundwater withdrawal of up to 0.168 mgd (30-day average) from the Schooley Well (Docket No. 19881103).

9. Project Sponsor and Facility: Upstate Niagara Cooperative, Inc., Town of Campbell, Steuben County, N.Y. Applications for groundwater withdrawals (30-day averages) of up to 0.510 mgd from Well 1 and renewal of up to 1.100 mgd from Well 4.

10. Project Sponsor: Weaverland Valley Authority. Project Facility: Blue Ball Water System, East Earl Township, Lancaster County, Pa. Application for groundwater withdrawal of up to 0.144 mgd (30-day average) from Well 4.

Commission-Initiated Project Approval Modification

1. Project Sponsor and Facility: Empire Kosher Poultry, Inc., Walker Township, Juniata County, Pa. Conforming the grandfathered amount with the forthcoming determination for consumptive use of up to 0.049 mgd (30-day average).

Opportunity To Appear and Comment

Interested parties may call into the hearing to offer comments to the Commission on any business listed above required to be subject of a public hearing. Given the telephonic nature of the meeting, the Commission strongly encourages those members of the public wishing to provide oral comments to pre-register with the Commission by emailing Jason Oyler at joyler@srbc.net prior to the hearing date. The presiding officer reserves the right to limit oral statements in the interest of time and to otherwise control the course of the hearing. Access to the hearing via telephone will begin at 2:15 p.m. Guidelines for the public hearing are posted on the Commission's website, www.srbc.net, prior to the hearing for review. The presiding officer reserves the right to modify or supplement such guidelines at the hearing. Written comments on any business listed above required to be subject of a public hearing may also be mailed to Mr. Jason Oyler, Secretary to the Commission, Susquehanna River Basin Commission, 4423 North Front Street, Harrisburg, Pa. 17110-1788, or submitted electronically through https://www.srbc.net/regulatory/public-comment/. Comments mailed or electronically submitted on the list of projects and the draft Comprehensive Plan must be received by the Commission on or before February 19, 2021 to be considered.

Authority: Pub. L. 91-575, 84 Stat. 1509 et seq., 18 CFR parts 806, 807, and 808.

Dated: January 6, 2021.
Jason E. Oyler,
General Counsel and Secretary to the Commission.

[FR Doc. 2021-00314 Filed 1-8-21; 8:45 am]

BILLING CODE 7040-01-P